DEPARTMENT OF STATE

22 CFR Parts 120 and 121

[Public Notice: 12552; DOS-2024-0023]

RIN 1400-AF29

International Traffic in Arms Regulations: Revisions to Definition and Controls Related to Defense Services; Extension of Comment Period

AGENCY: Department of State.

ACTION: Proposed rule; extension of comment period.

SUMMARY: The Department of State is extending the comment period for a proposed rule published July 29, 2024. The original comment period required submission of comments on or before September 27, 2024. In response to requests from the public, the Department extends the comment period through October 15, 2024.

DATES: The comment period for the proposed rule published July 29, 2024, at 89 FR 60980, is extended. Comments should be received on or before October 15, 2024.

ADDRESSES: Interested parties may submit comments by one of the following methods:

• Email: DDTCPublicComments@state.gov with the subject line: “Regulatory Change: Defense Service Definition”.

• Internet: At www.regulations.gov, search for this notice, by docket number DOS-2024-0023. Additional instructions regarding submission of comments can be found in the document published at 89 FR 60980, July 29, 2024.

FOR FURTHER INFORMATION CONTACT: Sarah Heidema, Director, Office of Defense Trade Controls Policy, Department of State, telephone (202) 663-1282; email DDTCCustomerService@state.gov. ATTN: Revisions to Definition and Controls Related to Defense Services.

SUPPLEMENTARY INFORMATION: On July 29, 2024, the Department of State published a proposed rule proposing revisions to the definition of defense service at 22 CFR 120.32 of the International Traffic in Arms Regulations (22 CFR parts 120 through 130) and to the United States Munitions List at 22 CFR 121.1 (89 FR 60980). On the same day, the Department of Commerce published a complementary proposed rule proposing changes to existing restrictions under the Export Administration Regulations (15 CFR parts 730 through 744) on military and intelligence end uses and end users and related controls on certain activities of U.S. persons, as well as the proposed addition of a military-support end-user control (89 FR 60985). In response to requests from the public received by the Department of Commerce, and due to their plan to extend the comment period for their complementary proposed rule for 15 more days, as published via separate notice, the Department of State is similarly extending the comment period for its proposed rule for 15 days.

Stanley L. Brown,
Acting Assistant Secretary, Bureau of Political-Military Affairs, Department of State.

[FR Doc. 2024-22041 Filed 9-23-24; 4:15 pm]

BILLING CODE 4710-25-P